DEPARTMENT OF HOMELAND SECURITY

Office of the Secretary

[Docket No. DHS-2011-0076]

DHS Data Privacy and Integrity Advisory Committee; Meeting

AGENCY: Privacy Office, DHS.

ACTION: Notice.

SUMMARY: On Wednesday, September 21, 2011, the DHS Privacy Office announced in the Federal Register at 76 FR 58524 that the Data Privacy and Integrity Advisory Committee would meet on October 5, 2011, in Arlington, Virginia. This notice supplements that original meeting notice.

DATES: The DHS Data Privacy and Integrity Advisory Committee will meet on Wednesday, October 5, 2011, from 1 p.m. to 5 p.m. Please note that the meeting may end early if the Committee has completed its business.

SUPPLEMENTARY INFORMATION: Notice of this meeting is given under the Federal Advisory Committee Act, 5 U.S.C. App., which requires that notices of meetings of advisory committees be announced in the Federal Register 15 days prior to the meeting date. A notice of the meeting of the Board was published in the Federal Register on September 21, 2011, 14 days prior to the meeting, due to the mistaken delivery of the notice to another Federal agency rather than to the Federal Register. The other Federal agency received the notice, and the Federal Register office received that agency's material. By the time the error was noted by each office and DHS was contacted, DHS could no longer meet the 15 day requirement. During the meeting the Committee will discuss draft guidance to the Department on privacy protections for information sharing within DHS. The draft guidance will be posted on the Committee's web site (http://www.dhs.gov/privacy) in advance of the meeting. If you wish to submit comments on the draft guidance, you may do so in advance of the meeting by forwarding them to the Committee at the locations listed under ADDRESSES in the original notice. Please include the Docket Number (DHS 2011-0076) in your comments. A public comment period will be held during the meeting from 4 p.m. to 4:30 p.m., and speakers are requested to limit their comments to 3 minutes. If you would like to address the Committee at the meeting, we request that you register in advance by contacting Martha K. Landesberg at the address listed under ADDRESSES in the original notice or sign up at the registration desk on the day of the meeting.

FOR FURTHER INFORMATION CONTACT: Martha K. Landesberg, Executive Director, DHS Data Privacy and Integrity Advisory Committee, Department of Homeland Security, Washington, DC 20528, by telephone (703) 235-0780, by fax (703) 235-0442, or by e-mail to PrivacyCommittee@dhs.gov.

Dated: September 23, 2011.
Mary Ellen Callahan,
Chief Privacy Officer, Department of Homeland Security.

[FR Doc. 2011-25079 Filed 9-28-11; 8:45 am]

BILLING CODE 9110-9L-P